DEPARTMENT OF COMMERCE

International Trade Administration

[A-583-803]

Light-Walled Welded Rectangular Carbon Steel Tubing from Taiwan: Continuation of Antidumping Duty Order

AGENCY: Import Administration, International Trade Administration, Department of Commerce.

SUMMARY: As a result of the determinations by the Department of Commerce and the International Trade Commission that revocation of the antidumping duty order on light-walled welded rectangular carbon steel tubing from Taiwan would be likely to lead to continuation or recurrence of dumping and of material injury to an industry in the United States within a reasonably foreseeable time, the Department is publishing notice of the continuation of this antidumping duty order.

EFFECTIVE DATE: August 9, 2006.

FOR FURTHER INFORMATION CONTACT: Edythe Artman or Minoo Hatten, Office 5, AD/CVD Operations, Import Administration, International Trade Administration, U.S. Department of Commerce, 14th Street & Constitution Avenue, NW, Washington, DC 20230; telephone: (202) 482-3931 and (202) 482-1690, respectively.

SUPPLEMENTARY INFORMATION:

Background

On July 1, 2005, the Department of Commerce (the Department) initiated and the International Trade Commission (ITC) instituted the second sunset review of the antidumping duty order on light-walled welded rectangular carbon steel tubing from Taiwan pursuant to section 751(c) of the Tariff Act of 1930, as amended (the Act). See Initiation of Five-year (“Sunset”) Reviews, 70 FR 38101 (July 1, 2005); Institution of Five-year Reviews Concerning the Countervailing Duty Order on Welded Carbon Steel Pipe and Tube from Turkey and the Antidumping Duty Orders on Certain Pipe and Tube from Argentina, Brazil, India, Korea, Mexico, Taiwan, Thailand, and Turkey, 70 FR 38204 (July 1, 2005). As a result of its review, the Department found that revocation of the antidumping duty order would be likely to lead to continuation or recurrence of dumping and notified the ITC of the magnitude of the margins likely to prevail were the order to be revoked. See Light-Walled Welded Rectangular Carbon Steel Tubing from Argentina and Taiwan; Final Results of the Expedited Sunset Reviews of the Antidumping Duty Orders, 70 FR 67432 (November 7, 2005). On June 29, 2006, the ITC determined pursuant to section 751(c) of the Act that revocation of the antidumping duty order on light-walled welded rectangular carbon steel tubing from Taiwan would be likely to lead to continuation or recurrence of material injury to an industry in the United States within a reasonably foreseeable time. See Certain Pipe and Tube from Argentina, Brazil, India, Korea, Mexico, Taiwan, Thailand, and Turkey, 71 FR 42118 (July 25, 2006), and ITC Publication 3867 (July 2006) entitled Certain Pipe and Tube from Argentina, Brazil, India, Korea, Mexico, Taiwan, Thailand, and Turkey: Investigation Nos. 701-TA-253 and 731-TA-132, 252, 271, 409, 410, 532-534, and 536 (Second Review).

Scope of the Order

The product covered by this order is light-walled welded carbon steel pipes and tubes of rectangular (including square) cross-section having a wall thickness of less than 0.156 inch. This merchandise is classified under item number 7306.60.50.00 of the Harmonized Tariff Schedule of the United States. It was formerly classified under item number 610.4928 of the Tariff Schedules of the United States.

Determination

As a result of the determinations by the Department and ITC that revocation of this antidumping duty order would be likely to lead to continuation or recurrence of dumping and material injury to an industry in the United States, pursuant to section 751(d)(2) of the Act, the Department hereby orders the continuation of the antidumping duty order on light-walled welded rectangular carbon steel tubing from Taiwan.

U.S. Customs and Border Protection will continue to collect antidumping duty cash deposits at the rates in effect at the time of entry for all imports of subject merchandise.

The effective date of continuation of this order will be the date of publication in the Federal Register of this Notice of Continuation. Pursuant to sections 751(c)(2) and 751(c)(6) of the Act, the Department intends to initiate the next five-year review of this order not later than July 2011.

This notice is in accordance with sections 751(c) and 777(i)(1) of the Act.

Dated: August 1, 2006.
David M. Spooner,
Assistant Secretary for Import Administration.

[FR Doc. E6-13000 Filed 8-8-06; 8:45 am]

BILLING CODE 3510-DS-S